DEPARTMENT OF TRANSPORTATION

Federal Aviation Administration

14 CFR Part 25

[Policy Statement No. ANM-115-05-14]

Acceptable Methods of Compliance with § 25.562(c)(5) for Front Row Passenger Seats

AGENCY: Federal Aviation Administration (FAA), DOT.

ACTION: Notice of final policy.

SUMMARY: The Federal Aviation Administration (FAA) announces the availability of final policy on Acceptable Methods of Compliance with Title 14 Code of Federal Regulations (CFR) § 25.562(c)(5) for Front Row Passenger Seats.

DATES: The final policy was issued by the Transport Airplane Directorate on December 14, 2005.

FOR FURTHER INFORMATION CONTACT: John Shelden, Federal Aviation Administration, Transport Airplane Directorate, Transport Standards Staff, Airframe/Cabin Safety Branch, ANM-115, 1601 Lind Avenue, SW., Renton, WA 98055-4056; telephone (425) 227-2785; fax (425) 227-1232; e-mail: John.shelden@faa.gov.

SUPPLEMENTARY INFORMATION:

Disposition of Comments

A notice of proposed policy was published in the Federal Register on April 26, 2005 (70 FR 21343). The comment period was reopened on June 9, 2005 (70 FR 33720). Eight (8) commenters responded to the requests for comments.

Background

The purpose of the policy memorandum is to clarify FAA certification policy of the acceptable substantiation methods used to provide protection under § 25.562(a) when meeting the performance standards in § 25.562(c) for “front row” seats. Front row seats are those seats which are located directly aft of a partition, monument, or other commodity, including all passenger seats not considered “row-to-row.” The policy is not directed toward other seats. The policy provides an acceptable means of protection for front row occupants.

The final policy as well as the disposition of public comments received are available on the Internet at the following address: http://airweb.faa.gov.rgl. If you do not have access to the Internet, you can obtain a copy of the policy by contacting the person listed under FOR FURTHER INFORMATION CONTACT.

Issued in Renton, Washington, on December 14, 2005.
Ali Bahrami,
Manager, Transport Airplane Directorate, Aircraft Certification Service.

[FR Doc. 05-24503 Filed 12-27-05; 8:45 am]

BILLING CODE 4910-13-M